ENVIRONMENTAL PROTECTION AGENCY

[OW-2003-0013, FRL-7501-2]

Agency Information Collection Activities: Title IV of the Public Health Security and Bioterrorism Preparedness and Response Act of 2002: Drinking Water Security and Safety (Act); Comment Request

AGENCY: Environmental Protection Agency.

ACTION: Notice.

SUMMARY: In compliance with the Paperwork Reduction Act (44 U.S.C. 3501 et seq.), this document announces that EPA is planning to submit the following continuing Information Collection Request (ICR) to the Office of Management and Budget (OMB): Title IV of the Public Health Security and Bioterrorism Preparedness and Response Act of 2002: Drinking Water Security and Safety (Act), hereinafter referred to as the Bioterrorism Act; ICR No. 2103.02; OMB Control No. 2040-0253; expiration date September 30, 2003. Before submitting this continuing ICR to OMB for review and approval, EPA is soliciting comments on specific aspects of the proposed information collection as described below.

DATES: Comments must be submitted on or before July 21, 2003.

ADDRESSES: Follow the detailed instructions in SUPPLEMENTARY INFORMATION.

FOR FURTHER INFORMATION CONTACT: Susan Dolgin, Water Protection Task Force, Office of Ground Water and Drinking Water, 4601M, Environmental Protection Agency, 1200 Pennsylvania Ave., NW., Washington, DC 20460; telephone number: (202) 564-9895; fax number: (202) 564-3753; e-mail address: dolgin.susan@epa.gov.

SUPPLEMENTARY INFORMATION: EPA has established a public docket for this ICR under Docket ID number OW-2003-0013, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice, and according to the following detailed instructions: (1) Submit your comments to EPA online using EDOCKET (our preferred method), (2) by email to OW-Docket@epa.gov, or (3) by mail to: EPA Docket Center, Environmental Protection Agency, Water Docket (mail code 4101T), 1200 Pennsylvania Ave., NW., Washington, DC 20460.

EPA's policy is that public comments, whether submitted electronically or on paper, will be made available for public viewing in EDOCKET as EPA receives them and without change, unless the comment contains copyrighted material, CBI, or other information for which public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected Entities: Entities potentially affected by this action are community water systems serving more than 3,300 people.

Title: Title IV of the Public Health Security and Bioterrorism Preparedness and Response Act of 2002: Drinking Water Security and Safety (Act); OMB Control Number 2040-0253; EPA ICR Number 2103.02; expiring September 30, 2003.

Abstract: The Bioterrorism Act requires each community water system serving a population of more than 3,300 people to conduct a vulnerability assessment of its water system and to prepare or revise an emergency response plan that incorporates the results of the vulnerability assessment. These requirements are mandatory under the statute. EPA will use the information collected under this ICR to determine whether community water systems have conducted vulnerability assessments and prepared or revised emergency response plans in compliance with that Act. EPA is required to protect all vulnerability assessments and all information derived from them from disclosure to unauthorized parties and has established an Information Protection Protocol describing how that will be accomplished.

This Notice provides the opportunity to comment on EPA's request to renew this ICR, which was approved by the Office of Management and Budget (OMB) on an emergency basis for 180 days, beginning March 31, 2003. During the 10-day comment period that was provided during that action, the following comments were raised:

i. EPA should reassess its burden estimates for developing emergency response plans;

ii. EPA should present total burden estimates in a clearer format;

iii. EPA should explain more clearly what is meant by a “compliance review;”

iv. EPA should clarify the statutory deadlines for submitting emergency response plan certifications.

EPA has changed the information document that supports this Notice to explain more clearly what is meant by a vulnerability assessment “compliance review” and also to clarify the statutory deadlines for submitting emergency response plan certifications to EPA.

At this time, EPA would like to solicit comments to:

(i) Evaluate whether the proposed collection of information is necessary for the proper performance of the functions of the Agency, including whether the information will have practical utility;

(ii) evaluate the accuracy of the Agency's estimate of the burden of the proposed collection of information (especially pertaining to the development of emergency response plans), including the validity of the methodology and assumptions used;

(iii) enhance the quality, utility, and clarity of the information to be collected; and

(iv) minimize the burden of the collection of information on those who are to respond, including the use of appropriate automated electronic, mechanical, or other technological collection techniques or other forms of information technology, e.g., permitting electronic submission of responses.

An agency may not conduct or sponsor, and a person is not required to respond to, a collection of information unless it displays a currently valid OMB control number. The OMB control numbers for EPA's regulations are listed in 40 CFR part 9 and 48 CFR chapter 15.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents or Affected Entities: Community water systems serving populations greater than 3,300 persons.

Estimated Number of Respondents: 8,487 systems.

Average Annual Reporting Burden: 2,652,393 hours/year over a three-year period. This includes the burden required for all affected community water systems to conduct vulnerability assessments, prepare or update emergency response plans, and submit the required items to EPA. The total burden for these systems is 7,957,179 hours, which is largely concentrated in calendar years 2003 and 2004.

Average burden per response: 117.9 hours/response. This figure is an average that was calculated from burden estimates applicable to systems ranging in size from the smallest (serving 3,301 persons) up to the very largest (serving millions of persons). The burden hours vary widely, then, depending on system size, and the average burden figure should not be interpreted as applicable to all systems.

Frequency of Response: Varies based on statutory schedule and system size.

Average Annual Cost: $156,540,365; includes $82,211 O&M costs and $0 capital and startup costs.

Dated: May 13, 2003.
Cynthia C. Dougherty,
Director, Office of Ground Water and Drinking Water.

[FR Doc. 03-12617 Filed 5-19-03; 8:45 am]

BILLING CODE 6560-50-P